DEPARTMENT OF JUSTICE

Notice of Lodging of Proposed Consent Decree Under the Comprehensive Environmental Response, Compensation, And Liability Act (CERCLA)

On August 22, 2024, the Department of Justice lodged a proposed consent decree with the United States District Court for the Middle District of Louisiana in the lawsuit entitled United States v. Clean Harbors, Inc. et al., Civil Action No. 24-688.

The proposed consent decree resolves claims alleged against Clean Harbors, Inc., Clean Harbors Baton Rouge, LLC, and Baton Rouge Disposal, LLC, under sections 106 and 107(a) of the Comprehensive Environmental Response, Compensation, and Liability Act (“CERCLA”), 42 U.S.C. 9606 and 9607(a), for hazardous waste cleanup and response costs incurred by the United States at the Devil's Swamp Lake Superfund Site (“Site”), located in East Baton Rouge Parish, Louisiana. The proposed consent decree requires the Defendants to perform a cleanup of hazardous waste estimated to cost $3,191,000, to pay the United States $2,047,313.63 for costs incurred in responding to the contamination at the Site, and to pay the United States all future costs expended for that purpose.

The publication of this notice opens a period for public comment on the consent decree. Comments should be addressed to the Assistant Attorney General, Environment and Natural Resources Division, and should refer to United States v. Clean Harbors, Inc. et al., D.J. Ref. No. 90-11-3-12390. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed in whole or in part on the public court docket without notice to the commenter.

During the public comment period, the consent decree may be examined and downloaded at this Justice Department website: http://www.justice.gov/enrd/consent-decrees. If you require assistance accessing the Consent Decree, you may request assistance by email or by mail to the addresses provided above for submitting comments.

Thomas Carroll,
Assistant Section Chief, Environmental Enforcement Section, Environment and Natural Resources Division.

[FR Doc. 2024-19285 Filed 8-27-24; 8:45 am]

BILLING CODE 4410-15-P